DEPARTMENT OF ENERGY

Federal Energy Regulatory Commission

[Project No. 13564-000]

Dexter-Russell, Inc.; Notice of Preliminary Permit Application Accepted for Filing and Soliciting Comments, Motions To Intervene, and Competing Applications

September 23, 2009.

On July 31, 2009, Dexter-Russell, Inc. filed an application, pursuant to Section 4(f) of the Federal Power Act, proposing to study the feasibility of the Dexter-Russell Water Power Project No. 13564, to be located on the Quinebaug River, in Worcester County, Massachusetts.

The proposed project would consist of: (1) The existing 11.5-foot-high, 370-foot-long Russell-Harrington Mill Pond Dam with a 30-foot-long masonry abutment; (2) an existing 8-acre impoundment with a normal water surface elevation of 477.5 feet mean sea level; (3) two new siphon turbine generating units with a combined capacity of 500 kilowatts; (4) a new 790-square-foot forebay and 45-foot-long full-depth trash rack with automated rake; (5) a new 13.8-kilovolt, 380-foot-long transmission line; and (6) appurtenant facilities. The project would have an estimated annual generation of 1,500 megawatt-hours.

Applicant Contact: Robert Ouellette, Dexter-Russell, Inc., 44 River Street, Southbridge, MA 01550, (508) 765-0201.

FERC Contact: Brandon Cherry, (202) 502-8328.

Deadline for filing comments, motions to intervene, competing applications (without notices of intent), or notices of intent to file competing application: 60 days from the issuance of this notice. Comments, motions to intervene, notices of intent, and competing applications may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of the Commission's Web site at http://www.ferc.gov/docs-filing/elibrary.asp.

Enter the docket number (P-13564) in the docket number field to access the document. For assistance, call toll-free 1-866-208-3372.

Kimberly D. Bose,
Secretary.

[FR Doc. E9-23515 Filed 9-29-09; 8:45 am]

BILLING CODE 6717-01-P